DEPARTMENT OF TRANSPORTATION

Federal Aviation Administration

Membership in the National Parks Overflights Advisory Group

AGENCY: Federal Aviation Administration, (FAA), DOT.

ACTION: Notice of Selection.

SUMMARY: By Federal Register notice on July 28, 2017, the FAA and the National Park Service (NPS) invited interested persons to apply to fill three current vacancies on the National Parks Overflights Advisory Group (NPOAG). The notice invited interested persons to apply to fill the openings, all of which represent environmental concerns. This notice informs the public of the persons selected to fill these current openings.

FOR FURTHER INFORMATION CONTACT: Keith Lusk, Special Programs Staff, Federal Aviation Administration, Western-Pacific Region Headquarters, 15000 Aviation Boulevard, Lawndale, CA 90261, telephone: (310) 725-3808, email: Keith.Lusk@faa.gov.

SUPPLEMENTARY INFORMATION:

Background

The National Parks Air Tour Management Act of 2000 (the Act) was enacted on April 5, 2000, as Public Law 106-181, and subsequently amended in the FAA Modernization and Reform Act of 2012. The Act required the establishment of the advisory group within 1 year after its enactment. The NPOAG was established in March 2001. The advisory group is comprised of a balanced group of representatives of general aviation, commercial air tour operations, environmental concerns, and Native American tribes. The Administrator of the FAA and the Director of NPS (or their designees) serve as ex officio members of the group. Representatives of the Administrator and Director serve alternating 1-year terms as chairman of the advisory group.

In accordance with the Act, the advisory group provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Membership

The current NPOAG is made up of one member representing general aviation, three members representing the commercial air tour industry, four members representing environmental concerns, and two members representing Native American interests. Current members of the NPOAG are as follows:

Melissa Rudinger representing general aviation; Alan Stephen, Matt Zuccaro, and Mark Francis representing commercial air tour operators; Rob Smith representing environmental interests with three open seats; and Leigh Kuwanwisiwma and Martin Begaye representing Native American tribes.

Selections

The persons selected to fill the current open seats representing environmental concerns are Dick Hingson, Les Blomberg, and John Eastman. These newly selected members' 3-year terms will begin on the publication date of this notice.

Issued in Hawthorne, CA, on September 13, 2017.
Keith Lusk,
Program Manager, Special Programs Staff, Western-Pacific Region.

[FR Doc. 2017-20332 Filed 9-21-17; 8:45 am]

BILLING CODE 4910-13-P